DEPARTMENT OF COMMERCE

National Institute of Standards and Technology

Announcing a National Voluntary Laboratory Accreditation Program Workshop for Laboratories Interested in the NIST Personal Identity Verification Program (NPIVP)

AGENCY: National Institute of Standards and Technology, Department of Commerce.

ACTION: Notice of public workshop.

SUMMARY: The National Voluntary Laboratory Accreditation Program (NVLAP) and National Institute of Standards and Technology (NIST) Personal Identity Verification Program (NPIVP) will hold a public workshop on March 3, 2006, at NIST headquarters in Gaithersburg, MD. The purpose of the workshop is the exchange of information among NVLAP, laboratories interested in seeking accreditation for the testing of Personal Identity Verification (PIV) components, vendors interested in having their product NPIVP-certified and Federal agencies seeking NPIVP certified products. The workshop will also review the mandates of Homeland Security Presidential Directive (HSPD) 12, as well as Federal Information Processing Standard (FIPS) 201, Standard for Personal Identity Verification of Federal Employees and Contractors, and the associated Special Publications (SP) in general and more specific in relation to NVLAP, interested laboratories, vendors and Federal agencies. The results of the workshop discussions will be used in the development of the NVLAP Personal Identity Verification (PIV) Laboratory Accreditation Program (PIV LAP).

There is no charge for the workshop; however, because of security regulations, advance registration is mandatory. There will be no on-site, same-day registration. The registration deadline is Monday, February 27, 2006. A registration form can be found at http://csrc.nist.gov/npivp/. Please e-mail the registration to npivp@nist.gov or fax the registration form with your name, address, telephone, fax and e-mail address to (301) 948-2067 (Attn: Hildegard Ferraiolo) no later than February 27, 2006.

DATES: The workshop will be held on Friday, March 3, 2006, from 9 a.m. to 4:30 p.m.

ADDRESSES: The workshop will be held in the Administrative Building (Building 101), Lecture Room A, National Institute of Standards and Technology, 100 Bureau Drive, Gaithersburg, MD.

FOR FURTHER INFORMATION CONTACT: Hildy Ferraiolo, (301) 975-6972, e-mail: hildegrard.ferraiolo@nist.gov or Erika McCallister, (301) 975-3390, e-mail: erika.mccallister@nist.gov. Their mailing address is: National Institute of Standards and Technology, 100 Bureau Drive, Mail Stop 8930, Gaithersburg, MD 20899-8930. Information regarding NVLAP and the accreditation process can also be viewed at http://www.nist.gov/nvlap.

SUPPLEMENTARY INFORMATION: In response to Homeland Security Presidential Directive (HSPD) 12, the NIST Computer Security Division initiated a new program for improving the identification and authentication of Federal employees and contractors for access to Federal facilities and information systems. Federal Information Processing Standard (FIPS) 201, entitled Personal Identity Verification (PIV) of Federal Employees and Contractors, was developed to satisfy the requirements of HSPD 12, approved by the Secretary of Commerce, and issued on February 25, 2005.

To meet the interoperability requirements as specified in HSPD-12 and implemented in FIPS 201 and associated Special Publications (SP), NIST has established the NIST Personal Identity Verification Program (NPIVP) to certify interoperable Personal Identity Verification (PIV) components and sub-systems.

In furtherance of NPIVP, the National Voluntary Laboratory Accreditation Program (NVLAP) is establishing a program for laboratories that test PIV components and sub-systems for conformance to the interoperability requirements of FIPS 201 and associated special publications.

NVLAP accreditation criteria are established in accordance with the Code of Federal Regulations (15 CFR part 285), NVLAP Procedures and General Requirements. Laboratories conducting this testing will be required to meet ISO/IEC International Standard 17025, general requirements for the competence of testing and calibration laboratories. For each new laboratory accreditation program (LAP), NVLAP works with the affected testing community to develop program-specific technical requirements. These requirements tailor the general accreditation criteria referenced in Sections 4 and 5 of NIST Handbook 150 to the test and services in the new LAP. Program-specific requirements include the details of the scope of accreditation, test and measurement equipment, personnel requirements, validation of test methods, and reporting of test results.

Authority: This work effort is being initiated pursuant to NIST's responsibilities under the Federal Information Security Management Act of 2002.

Dated: February 8, 2006.
William Jeffrey,
Director.

[FR Doc. E6-2049 Filed 2-13-06; 8:45 am]

BILLING CODE 3510-CN-P